DEPARTMENT OF HOMELAND SECURITY

Office of the Secretary

[Docket No. DHS-2013-0069]

Privacy Act of 1974; Department of Homeland Security U.S. Citizenship and Immigration Services, U.S. Immigration and Customs Enforcement, U.S. Customs and Border Protection—001 Alien File, Index, and National File Tracking System of Records

AGENCY: Department of Homeland Security, Privacy Office.

ACTION: Notice of update and reissuance of privacy act system of records.

SUMMARY: In accordance with the Privacy Act of 1974, the Department of Homeland Security proposes to update and reissue a current Department of Homeland Security system of records notice titled, “Department of Homeland Security U.S. Citizenship and Immigration Services, U.S. Immigration and Customs Enforcement, U.S. Customs and Border Protection—001 Alien File, Index, and National File Tracking System of Records,” 76 FR 34233 (June 13, 2011). This system of records contains information regarding transactions involving an individual as he/she passes through the U.S. immigration and inspection process, some of which may also be covered by separate systems of records notices. This system of records contains personally identifiable information such as the individual's name, Alien Registration Number, receipt file number, date and place of birth, date and port of entry, as well as the location of each official Alien File. It may also contain other personal identifiers such as an individual's Social Security Number. The Department of Homeland Security is updating the Department of Homeland Security U.S. Citizenship and Immigration Services, U.S. Immigration and Customs Enforcement, U.S. Customs and Border Protection—001 Alien File, Index, and National File Tracking System of Records with the following substantive changes: (1) The addition of five routine uses and the modification of eight routine uses to allow the Department of Homeland Security to share information from this system; (2) Updated notification and access procedures; and (3) Language acknowledging the concurrent publication of a Final Rule exempting this system from certain provisions of the Privacy Act, including an exemption for records that are classified. This updated system will be included in the Department of Homeland Security's inventory of record systems.

DATES: Submit comments on or before December 23, 2013. This updated system will be effective December 23, 2013.

ADDRESSES: You may submit comments, identified by docket number DHS-2013-0069 by one of the following methods:

• Federal e-Rulemaking Portal: http://www.regulations.gov. Follow the instructions for submitting comments.

• Fax: 202-343-4010.

• Mail: Jonathan R. Cantor, Deputy Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions regarding this system of records please contact: Donald K. Hawkins (202) 272-8000, Privacy Officer, U.S. Citizenship and Immigration Services, 20 Massachusetts Avenue NW., Washington, DC 20529. For privacy questions please contact: Jonathan R. Cantor (202) 343-1717, Deputy Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS), U.S. Immigration and Customs Enforcement (ICE), U.S. Customs and Border Protection (CBP) proposes to update and reissue a current DHS system of records titled, “DHS/USCIS-ICE-CBP-001 Alien File, Index, and National File Tracking System of Records.”

DHS implements U.S. immigration law and policy through USCIS's processing and adjudication of applications and petitions submitted for citizenship, asylum, and other immigration benefits. USCIS also supports national security by preventing individuals from fraudulently obtaining immigration benefits and by denying applications from individuals who pose national security or public safety threats. U.S. immigration policy and law is also implemented through ICE's law enforcement activities and CBP's inspection and border security processes.

The Alien File (A-File), Index, and National File Tracking System of Records is the official record system that contains information regarding the transactions of an individual as he/she passes through the U.S. immigration and inspection process. The DHS/USCIS-ICE-CBP-001 Alien File, Index, and National File Tracking System of Records contains personally identifiable information (PII) such as the individual's name, Alien Registration Number, receipt file number, date and place of birth, date and port of entry, as well as the location of each official A-File. It may also contain other personal identifiers such as an individual's Social Security Number (SSN), if the individual has one and it is in the A-File. Some records contained in the DHS/USCIS-ICE-CBP-001 A-Files are derived from separate systems of record, in which case the system of records notice (SORN) pertaining to the originating system would govern the treatment of those records. Previously, the legacy agency Immigration and Naturalization Services (INS) collected and maintained information concerning all of these immigration and inspection interactions. Since the formation of DHS, however, immigration responsibilities have been divided among USCIS, ICE, and CBP. While USCIS is the custodian of the A-File, all three components create, contribute information to, and use A-Files, hence this joint System of Records Notice.

A notice detailing this system of records was last published in the Federal Register on June 13, 2011, as the DHS/USCIS-ICE-CBP-001 Alien File, Index, and National File Tracking System of Records, 76 FR 34233.

DHS is updating the DHS/USCIS-ICE-CBP-001 Alien File, Index, and National File Tracking System of Records to include the following substantive changes: (1) The addition of three routine uses and the modification of eight routine uses to clarify DHS's sharing of information from this system; (2) Updated notification and access procedures; and (3) Language acknowledging the concurrent publication of a Final Rule exempting this system from certain provisions of the Privacy Act, including an exemption for records that are classified.

DHS added five routine uses with the letter in parentheses corresponding to the new routine use:

(H) Allows DHS to share information with other federal, state, tribal, local or government agencies when these other agencies are investigating or prosecuting violations of statute rules, regulations, orders, and/or licenses.

(I) Allows DHS to share information with third parties during the course of a law enforcement investigation in order to obtain pertinent information.

(J) Allows DHS to share information with organizations or persons when there is reason to believe that the recipient is or could be the target of a particular terrorist activity.

(LL) Allows DHS to share information with family members when, under 8 CFR § 103.8, DHS or an Executive Office for Immigration Review immigration judge makes a decision that an alien is mentally incompetent.

(OO) Allows DHS to share information with domestic government agencies when those agencies are seeking to determine the immigration status of individuals who have applied to purchase or obtain a firearm in the United States.

Below is a summary of the eight routine use modifications with the letter in parentheses corresponding to the routine use updated:

(A) Updated to clarify that records will be provided to “the United States or any agency thereof,” without any further modifiers to the section.

(C) Updated to note that records will be provided specifically to General Services Administration rather than other federal government agencies.

(D) Updated to clarify language that records will not be given to individuals, but to agencies or organizations performing the audit.

(E) Updated to clarify language regarding a suspected or confirmed compromise of personally identifiable information in the system.

(F) Updated to clarify language that the contractors are subject to the requirements laid out in this system of records notice and the Privacy Act.

(K) Updated to clarify the language to reflect the practice associated with naturalization process.

(L) Updated to clarify that records will be provided to “the United States or any agency thereof,” without any further modifiers to the section.

(M) Update language to refer to correct Code of Federal Regulations citation for the definition of an attorney or representative, and clarified that it is at the Department's discretion to use this routine use, as with any routine use published in this system of records.

Consistent with DHS's information sharing mission, information stored in the DHS/USCIS-ICE-CBP-001 may be shared with other DHS components that have a need to know the information to carry out their national security, law enforcement, immigration, intelligence, or other homeland security functions. In addition, DHS may share with appropriate federal, state, local, tribal, territorial, foreign, or international government agencies after DHS determines that the receiving component or agency has a need to know the information to carry out national security, law enforcement, immigration, intelligence, or other functions consistent with the routine uses set forth in the A-File SORN, or other applicable exemptions under the Privacy Act.

Additionally, DHS is issuing a Final Rule elsewhere in the Federal Register, to exempt this system of records from certain provisions of the Privacy Act. This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy (Privacy Policy Guidance Memorandum 2007-01, most recently updated January 7, 2009), DHS extends administrative Privacy Act protections to all individuals, regardless of citizenship, when systems of records maintain information on U.S. citizens, lawful permanent residents, and visitors.

The Privacy Act requires each agency to publish in the Federal Register a description denoting the type and character of each system of records that the agency maintains, and the routine uses that are contained in each system in order to make agency record keeping practices transparent, to notify individuals regarding the uses to which their records are put, and to assist individuals with more easily finding such files within the agency. Below is the description of the DHS/USCIS-ICE-CBP-001 Alien File, Index, and National File Tracking System of Records.

In accordance with 5 U.S.C. 552a(r), DHS has provided a report of this system of records to the Office of Management and Budget and to Congress.

SYSTEM OF RECORDS

DHS/USCIS-ICE-CBP-001

System name:

Department of Homeland Security U.S. Citizenship and Immigration Services, U.S. Immigration and Customs Enforcement, U.S. Customs and Border Protection—001 Alien File, Index, and National File Tracking System of Records.

Security classification:

Unclassified, sensitive, for official use only, and classified.

System location:

Alien Files (A-Files) are maintained in electronic and paper format throughout DHS. Digitized A-Files are located in the Enterprise Document Management System (EDMS). The Central Index System (CIS) maintains an index of the key personally identifiable information (PII) in the A-File, which can be used to retrieve additional information through such applications as Enterprise Citizenship and Immigrations Services Centralized Operational Repository (eCISCOR), the Person Centric Query Service (PCQS) and the Microfilm Digitization Application System (MiDAS). The National File Tracking System (NFTS) provides a tracking system of where the A-Files are physically located, including whether the file has been digitized.

The databases maintaining the above information are located within the DHS data center in the Washington, DC metropolitan area as well as throughout the country. Computer terminals providing electronic access are located at U.S. Citizenship and Immigration Services (USCIS) sites at Headquarters and in the Field throughout the United States and at appropriate facilities under the jurisdiction of the U.S. Department of Homeland Security (DHS) and other locations at which officers of DHS component agencies may be posted or operate to facilitate DHS's mission of homeland security. Hard copies of the A-Files are primarily located at the records centers in Lee Summit, Missouri; Suitland, Maryland; San Bruno, California; Seattle, Washington; and Dayton, Ohio. Hard copies may also be located at Headquarters, Regional, District, and other USCIS file control offices in the United States and foreign countries as detailed on the agency's Web site, http://www.USCIS.gov. Hard copies may also be located at the offices and facilities of U.S. Immigration and Customs Enforcement (ICE) and U.S. Customs and Border Protection (CBP).

Categories of individuals covered by the system:

• Lawful permanent residents;

• Naturalized U.S. citizens;

• U.S. citizens when petitioning for benefits under the Immigration and Nationality Act (INA) on behalf of another individual;

• Individuals who receive or petition for benefits under the INA, and;

• Individuals who are subject to the enforcement provisions of the INA;

• Individuals who are subject to the INA and:

○ Are under investigation by DHS for possible national security threats or threats to the public safety,

○ were investigated by DHS in the past,

○ are suspected of violating immigration-related criminal or civil provisions of treaties, statutes, regulations, Executive Orders, and Presidential proclamations administered by DHS, or

○ are witnesses and informants having knowledge of such violations;

• Relatives and associates of any of the individuals listed above who are subject to the INA;

• Individuals who have renounced their U.S. Citizenship; or

• Preparers, attorneys, and representatives who assist individuals during benefit and enforcement proceedings under the INA.

Note: Individuals may fall within one or more of these categories.

Categories of records in this system include:

A. The hardcopy paper A-File, which contains the official record material about each individual for whom DHS has created a record under the INA such as: naturalization certificates; various documents and attachments (e.g., birth and marriage certificates); applications and petitions for benefits under the immigration and nationality laws; reports of arrests and investigations; statements; other reports; records of proceedings before or filings made with the U.S. immigration courts and any administrative or federal district court or court of appeal; correspondence; and memoranda. Specific data elements may include:

• Alien Registration Number(s) (A-Numbers);

• Receipt file number(s);

• Full name and any aliases used;

• Physical and mailing addresses;

• Phone numbers and email addresses;

• Social Security Number (SSN);

• Date of birth;

• Place of birth (city, state, and country);

• Countries of citizenship;

• Gender;

• Physical characteristics (height, weight, race, eye and hair color, photographs, fingerprints);

• Government-issued identification information (i.e., passport, driver's license):

○ Document type,

○ issuing organization,

○ document number, and

○ expiration date;

• Military membership;

• Arrival/Departure information (record number, expiration date, class of admission, etc.);

• Federal Bureau of Investigation (FBI) Identification Number;

• Fingerprint Identification Number;

• Immigration enforcement history, including arrests and charges, immigration proceedings and appeals, and dispositions including removals or voluntary departures;

• Immigration status;

• Family history;

• Travel history;

• Education history;

• Employment history;

• Criminal history;

• Professional accreditation information;

• Medical information relevant to an individual's application for benefits under the INA before DHS or the immigration court, an individual's removability from and/or admissibility to the United States, or an individual's competency before the immigration court;

• Specific benefit eligibility information as required by the benefit being sought; and

• Video or transcript of immigration interview.

B. EDMS maintains the electronic copy of the A-File (same information as above with the exception of material that cannot be scanned such as cassette tapes, CDs, or DVDs) if it was scanned from the paper file.

C. CIS contains information on those individuals who during their interactions with DHS have been assigned an A-Number. The system contains biographic information on those individuals, allowing DHS employees to quickly review the individual's immigration status. The information in the system can then be used to retrieve additional information on the individual from other systems. The information in the system can be used to request the hard copy A-File from the DHS File Control Office that has custody of the file. Specific data elements may include:

• A-Number(s);

• Full name and any aliases used;

• SSN;

• Date of birth;

• Place of birth (city, state, and country);

• Country of citizenship;

• Gender;

• Government issued identification information (i.e., passport, driver's license):

○ Document type,

○ issuing organization,

○ document number, and

○ expiration date;

• Arrival/Departure information (record number, expiration date, class of admission etc.);

• Immigration status;

• Father and Mother's first name;

• FBI Identification Number;

• Fingerprint Identification Number;

• Immigration enforcement history, including arrests and charges, immigration proceedings and appeals, and dispositions including removals or voluntary departures; and

• File Control Office location of the paper or electronic A-File.

D. NFTS contains the location of the A-File to a more detailed level within the DHS File Control Office. Specific data elements include:

• A-Number(s);

• Receipt File Number; and

• Location of the paper or electronic A-File and Receipt File at and within the DHS File Control Office, as well as the history of who has maintained the A-File, including the component, section, and employee.

Authority for maintenance of the system:

Authority for maintaining this system is in Sections 103 and 290 of the INA, as amended (8 U.S.C. 1103 and 1360), and the regulations issued pursuant thereto; and Section 451 of the Homeland Security Act of 2002 (Pub. L. 107-296), codified at 6 U.S.C. 271.

Purpose(s):

The purpose of the A-File is to facilitate the enforcement and provision of benefits under the INA and related statutes. A-Files, EDMS, CIS, and NFTS are used primarily by DHS employees for immigration benefits processing, protection of national security, and administering and enforcing immigration and nationality laws and related statutes.

The purpose of the A-File is to document an individual's benefits and enforcement transactions as he/she passes through the U.S. immigration and inspection process.

The purpose of CIS is to provide a searchable central index of A-Files and to support the location and transfer of A-Files among DHS personnel and offices as needed in support of immigration benefits and enforcement actions.

The purpose of NFTS is to accurately account for the specific physical location of A-Files and Receipt Files within a DHS File Control Office, and to track the request and transfer of all A-Files and Receipt Files.

These records assist DHS with processing applications for benefits under applicable immigration laws; detecting violations of these laws; supporting the referral of such violations for prosecution or other appropriate enforcement action; supporting law enforcement efforts and the inspection process; and supporting protection of the United States borders.

Routine uses of records maintained in the system, including categories of users and the purposes of such uses:

Note: Even when a valid routine use permits disclosure of information from this system of records to a third party, in some cases such disclosure may not be permissible because of confidentiality laws and policies that limit the sharing of information about the application for, or award of certain immigration benefits. For example, information in this system of records contained in or pertaining to applications for asylum or refugee protection, information relating to persons who have pending or approved petitions for protection under the Violence Against Women Act (VAWA), Seasonal Agricultural Worker or Legalization claims, the Temporary Protected Status of an individual, and information relating to S, T, or U visas should not be disclosed pursuant to a routine use unless disclosure is otherwise permissible under the confidentiality statutes, regulations, or policies applicable to that information. However, these confidentiality provisions do not prevent DHS from disclosing information to the U.S. Department of Justice and Offices of the United States Attorneys as part of an ongoing criminal or civil investigation.

In addition to those disclosures generally permitted under 5 U.S.C. 552a(b) of the Privacy Act, all or a portion of the records or information contained in this system may be disclosed outside DHS as a routine use pursuant to 5 U.S.C. 552a(b)(3) as follows:

A. To the Department of Justice (DOJ), including U. S. Attorneys' Offices, or other federal agency conducting litigation or in proceedings before any court, adjudicative or administrative body, when it is necessary or relevant to the litigation and one of the following is a party to the litigation or has an interest in such litigation:

1. DHS or any component thereof;

2. Any employee of DHS in his/her official capacity;

3. Any employee of DHS in his/her individual capacity when DOJ or DHS has agreed to represent the employee; or

4. The United States or any agency thereof.

B. To a congressional office from the record of an individual in response to an inquiry from that congressional office made at the request of the individual to whom the record pertains.

C. To the National Archives and Records Administration or General Services Administration pursuant to records management inspections being conducted under the authority of 44 U.S.C. 2904 and 2906.

D. To an agency or organization, for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to the security or integrity of this system or other systems or programs (whether maintained by DHS or another agency or entity) or harm to the individuals that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations.

H. To appropriate federal, state, tribal, local, or foreign governmental agencies or multilateral governmental organizations responsible for investigating or prosecuting the violations of, or for enforcing or implementing, a statute, rule, regulation, order, or license, when DHS believes the information would assist in enforcing applicable civil or criminal laws.

I. To third parties during the course of a law enforcement investigation to the extent necessary to obtain information pertinent to the investigation.

J. To an organization or person in either the public or private sector, either foreign or domestic, when there is a reason to believe that the recipient is or could become the target of a particular terrorist activity or conspiracy, or when the information is relevant to the protection of life, property, or other vital interests of a person.

K. To clerks and judges of courts exercising naturalization jurisdiction for the purpose of granting or revoking naturalization.

L. To courts, magistrates, administrative tribunals, opposing counsel, parties, and witnesses, in the course of immigration, civil, or criminal proceedings before a court or adjudicative body when it is necessary or relevant to the litigation or proceeding and the following is a party to the proceeding or has an interest in the proceeding:

1. DHS or any component thereof; or

2. Any employee of DHS in his or her official capacity; or

3. Any employee of DHS in his or her individual capacity when the DOJ or DHS has agreed to represent the employee; or

4. The United States or any agency thereof.

M. To an attorney or representative (as defined in 8 CFR 1.2) who is acting on behalf of an individual covered by this system of records in connection with any proceeding before USCIS, ICE, or CBP or the Executive Office for Immigration Review, as required by law or as deemed necessary in the discretion of the Department.

N. To DOJ (including Offices of the United States Attorneys) or other federal agency conducting litigation or in proceedings before any court, adjudicative, or administrative body, when necessary to assist in the development of such agency's legal and/or policy position.

O. To the Department of State in the processing of petitions or applications for benefits under the INA, and all other immigration and nationality laws including treaties and reciprocal agreements; or when the Department of State requires information to consider and/or provide an informed response to a request for information from a foreign, international, or intergovernmental agency, authority, or organization about an alien or an enforcement operation with transnational implications.

P. To appropriate federal, state, local, tribal, territorial, or foreign governments, as well as to other individuals and organizations during the course of an investigation by DHS or the processing of a matter under DHS's jurisdiction, or during a proceeding within the purview of the immigration and nationality laws, when DHS deems that such disclosure is necessary to carry out its functions and statutory mandates.

Q. To an appropriate federal, state, tribal, territorial, local, or foreign government agency or organization, or international organization, lawfully engaged in collecting law enforcement intelligence, whether civil or criminal, or charged with investigating, prosecuting, enforcing, or implementing civil or criminal laws, related rules, regulations, or orders, to enable these entities to carry out their law enforcement responsibilities, including the collection of law enforcement intelligence and the disclosure is appropriate to the proper performance of the official duties of the person receiving the information.

R. To an appropriate federal, state, local, tribal, territorial, foreign, or international agency, if the information is relevant to a requesting agency's decision concerning the hiring or retention of an individual, or issuance of a security clearance, license, contract, grant, or other benefit, or if the information is relevant to a DHS decision concerning the hiring or retention of an employee, the issuance of a security clearance, the reporting of an investigation of an employee, the letting of a contract, or the issuance of a license, grant, or other benefit.

S. To an appropriate federal, state, local, tribal, territorial, foreign, or international agency, if DHS determines: (1) The information is relevant and necessary to that agency's decision concerning the hiring or retention of an individual, or issuance of a security clearance, license, contract, grant, or other benefit; and (2) Failure to disclose the information is likely to create a substantial risk to government facilities, equipment, or personnel; sensitive information; critical infrastructure; or public safety.

T. To appropriate federal, state, local, tribal, or foreign governmental agencies or multilateral governmental organizations for the purpose of protecting the vital interests of a data subject or other persons, including to assist such agencies or organizations in preventing exposure to, or transmission of a communicable or quarantinable disease or to combat other significant public health threats; appropriate notice will be provided of any identified health threat or risk.

U. To an individual's current employer to the extent necessary to determine employment eligibility or to a prospective employer or government agency to verify whether an individual is eligible for a government-issued credential that is a condition of employment.

V. To a former employee of DHS, in accordance with applicable regulations, for purposes of: responding to an official inquiry by a federal, state, or local government entity or professional licensing authority; or facilitating communications with a former employee that may be necessary for personnel-related or other official purposes when DHS requires information or consultation assistance from the former employee regarding a matter within that person's former area of responsibility.

W. To the Office of Management and Budget in connection with the review of private relief legislation as set forth in OMB Circular No. A-19 at any stage of the legislative coordination and clearance process as set forth in the Circular.

X. To the U.S. Senate Committee on the Judiciary or the U.S. House of Representatives Committee on the Judiciary when necessary to inform members of Congress about an alien who is being considered for private immigration relief.

Y. To a federal, state, tribal, or local government agency and/or to domestic courts to assist such agencies in collecting the repayment of loans, or fraudulently or erroneously secured benefits, grants, or other debts owed to them or to the United States Government, or to obtain information that may assist DHS in collecting debts owed to the United States Government.

Z. To an individual or entity seeking to post or arrange, or who has already posted or arranged, an immigration bond for an alien, to aid the individual or entity in (1) identifying the location of the alien; (2) posting the bond; (3) obtaining payments related to the bond; or (4) conducting other administrative or financial management activities related to the bond.

AA. To a coroner for purposes of affirmatively identifying a deceased individual (whether or not such individual is deceased as a result of a crime).

BB. Consistent with the requirements of the INA, to the Department of Health and Human Services (HHS), the Centers for Disease Control and Prevention (CDC), or to any state or local health authorities, to:

1. Provide proper medical oversight of DHS-designated civil surgeons who perform medical examinations of both arriving aliens and of those requesting status as lawful permanent residents; and

2. Ensure that all health issues potentially affecting public health and safety in the United States are being or have been, adequately addressed.

CC. To a federal, state, local, tribal, or territorial government agency seeking to verify or ascertain the citizenship or immigration status of any individual within the jurisdiction of the agency for any purpose authorized by law.

DD. To the Social Security Administration (SSA) for the purpose of issuing a SSN and card to an alien who has made a request for a SSN as part of the immigration process and in accordance with any related agreements in effect between the SSA, DHS, and the Department of State entered into pursuant to 20 CFR 422.103(b)(3), 422.103(c)(3), and 422.106(a), or other relevant laws and regulations.

EE. To federal and foreign government intelligence or counterterrorism agencies or components when DHS becomes aware of an indication of a threat or potential threat to national or international security, or when such use is to conduct national intelligence and security investigations or assist in anti-terrorism efforts.

FF. To third parties to facilitate placement or release of an individual (e.g., at a group home, homeless shelter) who has been or is about to be released from DHS custody, but only such information that is relevant and necessary to arrange housing or continuing medical care for the individual.

GG. To an appropriate domestic government agency or other appropriate authority for the purpose of providing information about an individual who has been or is about to be released from DHS custody who, due to a condition such as mental illness, may pose a health or safety risk to himself/herself or to the community. DHS will only disclose information about the individual that is relevant to the health or safety risk they may pose and/or the means to mitigate that risk (e.g., the individual's need to remain on certain medication for a serious mental health condition).

HH. To foreign governments for the purpose of coordinating and conducting the removal of individuals to other nations under the INA; and to international, foreign, and intergovernmental agencies, authorities, and organizations in accordance with law and formal or informal international arrangements.

II. To a federal, state, local, territorial, tribal, international, or foreign criminal, civil, or regulatory law enforcement authority when the information is necessary for collaboration, coordination, and de-confliction of investigative matters, prosecutions, and/or other law enforcement actions to avoid duplicative or disruptive efforts and to ensure the safety of law enforcement officers who may be working on related law enforcement matters.

JJ. To the DOJ Federal Bureau of Prisons and other federal, state, local, territorial, tribal, and foreign law enforcement or custodial agencies for the purpose of placing an immigration detainer on an individual in that agency's custody, or to facilitate the transfer of custody of an individual from DHS to the other agency. This will include the transfer of information about unaccompanied minor children to HHS to facilitate the custodial transfer of such children from DHS to HHS.

KK. To federal, state, local, tribal, territorial, or foreign governmental or quasi-governmental agencies or courts to confirm the location, custodial status, removal, or voluntary departure of an alien from the United States, in order to facilitate the recipients' exercise of responsibilities pertaining to the custody, care, or legal rights (including issuance of a U.S. passport) of the removed individual's minor children, or the adjudication or collection of child support payments or other debts owed by the removed individual.

LL. To a federal, state, tribal, territorial, local, international, or foreign government agency or multilateral governmental organization for the purpose of consulting with that agency or entity: (1) To assist in making a determination regarding redress for an individual in connection with the operations of a DHS component or program; (2) for the purpose of verifying the identity of an individual seeking redress in connection with the operations of a DHS component or program; or (3) for the purpose of verifying the accuracy of information submitted by an individual who has requested such redress on behalf of another individual.

MM. To family members, guardians, committees, friends, or other agents identified by law or regulation to receive notification, decisions, and other papers as provided in 8 CFR 103.8 from the Department of Homeland Security or Executive Office for Immigration Review following verification of a familial or agency relationship with an alien when DHS is aware of indicia of incompetency or when an immigration judge determines an alien is mentally incompetent.

NN. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

OO. To domestic governmental agencies seeking to determine the immigration status of persons who have applied to purchase/obtain a firearm in the United States, pursuant to checks conducted on such persons under the Brady Handgun Violence Prevention Act or other applicable laws.

Disclosure to consumer reporting agencies:

None.

Policies and practices for storing, retrieving, accessing, retaining, and disposing of records in the system:

Storage:

Records in this system are stored electronically or on paper in secure facilities in a locked drawer behind a locked door. The records may be stored on magnetic disc, tape, digital media, and CD-ROM.

Retrievability:

Digitized A-Files maintained in EDMS can be searched and retrieved by any of the following fields alone or in any combination:

• A-Number;

• Last name;

• First name;

• Middle name;

• Aliases;

• Date of birth;

• Country of birth;

• Gender; and

• Through a full text-based search of records contained in the digitized A-File (based on optical character recognition of the scanned images).

The location of the paper record from which the digitized A-File was produced can be searched in CIS using the following data:

• A-Number;

• Full name;

• Alias;

• Sounds-like name with or without date of birth;

• Certificate of Citizenship or Naturalization Certificate number;

• Driver's License Number;

• FBI Identification Number;

• Fingerprint Identification Number;

• I-94 admission number;

• Passport number;

• SSN; or

• Travel document number.

The location of the paper or digitized record A-Files and Receipt Files can be searched in NFTS using the following data:

• A-Number; or

• Receipt File Number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

The A-File records are permanent whether hard copy or electronic. A-Files are transferred to the custody of the National Archives 100 years after the individual's date of birth. Newly-eligible files are transferred to the National Archives every five years. When a paper A-File is digitized, the digitized A-File maintained in EDMS becomes the official record and maintains the same retention schedule as the original paper A-File. The hard copy files are sent to the records center once the records have been digitized.

CIS records are permanently retained on-site because they are the index of where the physical A-File is and whether it has been transferred to the National Archives.

NFTS records are temporary and deleted when they are no longer needed for agency business. The records exist only as a reference to a physical or digital file, and exist for as long as the referenced file exists. NFTS records associated with an A-File will be retained on a permanent basis even after the A-File has been retired to NARA to retain accurate recordkeeping. Receipt Files with a shorter retention period will have the associated NFTS record destroyed or deleted once the file has been destroyed.

System Manager and address:

The DHS system manager is the Chief, Records Division, U.S. Citizenship and Immigration Services, Department of Homeland Security, 20 Massachusetts Avenue NW., Washington, DC 20529.

Notification procedure:

The Secretary of Homeland Security has exempted this system from the notification, access, and amendment procedures of the Privacy Act because it contains classified and sensitive unclassified information related to intelligence, counterterrorism, homeland security, and law enforcement programs. These exemptions apply only to the extent that records in the system are subject to exemption. However, USCIS will consider individual requests to determine whether or not information may be released. Individuals seeking notification of and access to any record contained in this system of records, or seeking to contest its content, may submit a request in writing to the USCIS FOIA Officer, whose contact information can be found at http://www.dhs.gov/foia under “Contacts.” When seeking records about yourself from this system of records or any other DHS system of records your request must conform with the Privacy Act regulations set forth in 6 CFR Part 5. You must first verify your identity, meaning that you must provide your full name, current address, and date and place of birth. You must sign your request, and your signature must either be notarized or submitted under 28 U.S.C. § 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe DHS would have information on you;

• Identify which component(s) of DHS you believe may have the information about you;

• Specify when you believe the records would have been created; and

• Provide any other information that will help the FOIA staff determine which DHS component agency may have responsive records.

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Basic information contained in DHS records is supplied by individuals on Department of State and DHS applications and forms. Other information comes from inquiries or complaints from members of the general public and members of Congress; referrals of inquiries or complaints directed to the President or Secretary of Homeland Security; reports of investigations, sworn statements, correspondence, official reports, memoranda, and written referrals from other entities, including federal, state, and local governments, various courts and regulatory agencies, foreign government agencies, and international organizations.

Exemptions claimed for the system:

The Secretary of Homeland Security has exempted this system from the following provisions of the Privacy Act pursuant to 5 U.S.C. 552a(j)(2): 5 U.S.C. 552a(c)(3), (c)(4), (d), (e)(1), (e)(2), (e)(3), (e)(4)(G), (e)(4)(H), (e)(4)(I), (e)(5), (e)(8), (e)(12), (f), (g)(1), and (h). Additionally, the Secretary of Homeland Security has exempted this system from the following provisions of the Privacy Act pursuant to 5 U.S.C. 552a(k)(1) and (k)(2); 5 U.S.C. 552a(c)(3), (d), (e)(1), (e)(4)(G), (e)(4)(H), (e)(4)(I), and (f).

Dated: October 28, 2013.
Jonathan R. Cantor,
Deputy Chief Privacy Officer, Department of Homeland Security.

[FR Doc. 2013-27895 Filed 11-20-13; 8:45 am]

BILLING CODE 9111-97-P